NATIONAL CREDIT UNION ADMINISTRATION

Sunshine Act: Notice of Agency Meeting

TIME AND DATE: 10:00 a.m., Thursday, November 19, 2020.

PLACE: Due to the COVID-19 Pandemic, the meeting will be open to the public via live webcast only. Visit the agency's homepage (www.ncua.gov.) and access the provided webcast link.

STATUS: This meeting will be open to the public.

MATTERS TO BE CONSIDERED: 1. Board Briefing, Share Insurance Fund Quarterly Report.

2. Board Briefing, State of Credit Union Diversity and the 2019 Credit Diversity Self-Assessment.

3. Board Briefing, 2020 Budget Update and Reprogramming.

4. NCUA Rules and Regulations, Capitalization of Interest.

CONTACT PERSON FOR MORE INFORMATION: Melane Conyers-Ausbrooks, Secretary of the Board, Telephone: 703-518-6304.

Melane Conyers-Ausbrooks,
Secretary of the Board.

[FR Doc. 2020-25363 Filed 11-13-20; 11:15 am]

BILLING CODE 7535-01-P